DEPARTMENT OF VETERANS AFFAIRS

[OMB Control No. 2900-New (EVHAMHS)]

Proposed Information Collection Activity: Proposed Collection; Comment Request

AGENCY: Office of Policy, Planning and Preparedness, Department of Veterans Affairs.

ACTION: Notice.

SUMMARY: The Office of Policy, Planning and Preparedness (OPP&P), Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed by the VA to assess the achievement of Veterans Health Administration program outcomes in the area of mental health services.

DATES: Written comments and recommendations on the proposed collection of information should be received on or before October 22, 2007.

ADDRESSES: Submit written comments on the collection of information through http://www.Regulations.gov; or to Barbara Stephens, Office of Policy and Planning, Department of Veterans Affairs, 810 Vermont Ave., NW., Washington, DC 20420 or e-mail barbara.stephens@va.gov. Please refer to “OMB Control No. 2900-NEW (EVHAMHS)” in any correspondence. During the comment period, comments may be viewed online through the Federal Docket Management System (FDMS) at http://www.Regulations.gov.

FOR FURTHER INFORMATION CONTACT: Barbara Stephens at (202) 461-5776 or FAX (202) 273-5993.

SUPPLEMENTARY INFORMATION: Under the PRA of 1995 (Pub. L. 104-13; 44 U.S.C. 3501—3521), Federal agencies must obtain approval from the Office of Management and Budget (OMB) for each collection of information they conduct or sponsor. This request for comment is being made pursuant to section 3506(c)(2)(A) of the PRA.

With respect to the following collection of information, the Office of Policy, Planning and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Evaluation of Veterans Health Administration Mental Health Services.

OMB Control Number: 2900-New (EVHAMHS).

Type of Review: New collection.

Abstract: VA will use the data collected to assess the achievement of Veterans Health Administration program outcomes in the area of mental health services for schizophrenia, bipolar disorder, post-traumatic stress disorder, major depression, and substance use disorders, as well as the implementation and impact of the Mental Health Strategic Plan. The data will assist the VA in determining the type, level, and quality of care provided, and the degree of satisfaction for the five mental health diagnoses across the continuum of care, and, when performance falls short, to develop recommendations for improvements.

Affected Public: Individuals or households.

Estimated Total Annual Burden: 4,109 hours.

Estimated Average Burden Per Respondent: 30 minutes.

Frequency of Response: One-time.

Estimated Number of Respondents: 8,218.

Dated: August 7, 2007.
By direction of the Secretary.
Denise McLamb,
Program Analyst, Records Management Service.

[FR Doc. E7-16484 Filed 8-21-07; 8:45 am]

BILLING CODE 8320-01-P